DEPARTMENT OF TRANSPORTATION

Federal Aviation Administration

14 CFR Part 39

[Docket No. FAA-2009-0003; Directorate Identifier 2007-NM-251-AD; Amendment 39-16368; AD 2010-15-02]

RIN 2120-AA64

Airworthiness Directives; Airbus Model A330-200 and -300 Series Airplanes, and A340-200, -300, -500, and -600 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Several cases of corrosion and damage on the Down Drive Shafts (DDS), between the Down Drive Gear Box (DDGB) and the Input Gear Box (IPGB), on all 10 Flap Tracks (5 per wing), have been reported by AIRBUS Long Range Operators.

Investigations have revealed that corrosion and wear due to absence of grease in the spline interfaces could cause [DDS] disconnection which could result in a free movable flap surface, potentially leading to aircraft asymmetry or even flap detachment.

* * * * *

The unsafe condition could reduce the ability of the flightcrew to maintain the safe flight and landing of the airplane. We are issuing this AD to require actions to correct the unsafe condition on these products.

DATES: This AD becomes effective August 26, 2010.

The Director of the Federal Register approved the incorporation by reference of certain publications listed in this AD as of August 26, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, FAA, Transport Airplane Directorate, 1601 Lind Avenue, SW., Renton, Washington 98057-3356; telephone (425) 227-1138; fax (425) 227-1149.

SUPPLEMENTARY INFORMATION:

Discussion

We issued a supplemental notice of proposed rulemaking (NPRM) to amend 14 CFR part 39 to include an AD that would apply to the specified products. That supplemental NPRM was published in the Federal Register on March 29, 2010 (75 FR 15353). That supplemental NPRM proposed to correct an unsafe condition for the products listed above.

Explanation of Revised Service Information

Airbus has issued Mandatory Service Bulletin A330-27-3152, Revision 03, including Appendices 1 and 2, dated February 22, 2010. Airbus Mandatory Service Bulletin A330-27-3152, Revision 02, dated September 23, 2008, is referred to as the appropriate source of service information for accomplishing certain actions in the supplemental NPRM. The changes in Airbus Mandatory Service Bulletin A330-27-3152, Revision 03, dated February 22, 2010, are minor and no additional work is necessary for airplanes on which the actions specified in Revision 02 of this service bulletin were done.

Comments

We gave the public the opportunity to participate in developing this AD. We considered the comments received.

Comments

Delta supports the proposed actions in the supplemental NPRM and asks that we include Airbus Mandatory Service Bulletin A330-27-3152, Revision 03, dated February 22, 2010, as the appropriate source of service information for accomplishing certain actions. Delta also asks that we give credit for Airbus Mandatory Service Bulletin A330-27-3152, Revision 02, dated September 23, 2008.

As stated previously, Airbus issued Mandatory Service Bulletin A330-27-3152, Revision 03, dated February 22, 2010. We have cited Airbus Mandatory Service Bulletin A330-27-3152, Revision 03, dated February 22, 2010, as the appropriate source of service information for accomplishing the required actions and have changed the service bulletin references in Tables 1 and 2 of this AD accordingly.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD affects about 41 products of U.S. registry. We also estimate that it takes 65 work-hours per product to comply with the basic requirements of this AD. The average labor rate is $85 per work-hour. Based on these figures, we estimate the cost of the AD on U.S. operators to be $226,525, or $5,525 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-15-02 Airbus: Amendment 39-16368. Docket No. FAA-2009-0003; Directorate Identifier 2007-NM-251-AD.

Effective Date

(a) This airworthiness directive (AD) becomes effective August 26, 2010.

Affected ADs

(b) None.

Applicability

(c) This AD applies to Airbus Model A330-201, -202, -203, -223, -243, -301, -302, -303, -321, -322, -323, -341, -342, and -343 series airplanes, A340-211, -212, -213, -311, -312, and -313 series airplanes, and A340-541 and -642 airplanes, certificated in any category; all certified models, all manufacturer serial numbers.

Subject

(d) Air Transport Association (ATA) of America Code 27: Flight Controls.

Reason

(e) The mandatory continuing airworthiness information (MCAI) states:

Several cases of corrosion and damage on the Down Drive Shafts (DDS), between the Down Drive Gear Box (DDGB) and the Input Gear Box (IPGB), on all 10 Flap Tracks (5 per wing), have been reported by AIRBUS Long Range Operators.

Investigations have revealed that corrosion and wear due to absence of grease in the spline interfaces could cause [DDS] disconnection which could result in a free movable flap surface, potentially leading to aircraft asymmetry or even flap detachment.

Emergency Airworthiness Directive (EAD) 2007-0222-E mandated on all aircraft older than 6 years since AIRBUS original delivery date of the aircraft, an initial inspection of all DDS and IPGB for corrosion and wear detection in order to replace any damaged part.

Revision 1 of EAD 2007-0222-E aimed for clarifying the compliance instructions.

[EASA AD 2008-0026] supersedes the EAD 2007-0222R1-E and mandates repetitive inspections every 6 years for all the fleet.

The unsafe condition could reduce the ability of the flightcrew to maintain the safe flight and landing of the airplane. The corrective actions include replacing damaged parts.

Compliance

(f) You are responsible for having the actions required by this AD performed within the compliance times specified, unless the actions have already been done.

Actions

(g) Do the applicable inspections and corrective actions specified in paragraphs (g)(1) and (g)(2) of this AD, in accordance with the instructions of the applicable service information specified in Table 1 of this AD.

Table 1—Service Information
For model— | Use Airbus Mandatory Service Bulletin— | For actions specified in paragraph—
A330-200 and -300 series airplanes | A330-27-3151, Revision 01, dated March 19, 2008 | (g)(1)(i) and (g)(1)(ii) of this AD.
A330-200 and -300 series airplanes | A330-27-3152, Revision 03, dated February 22, 2010 | (g)(1)(iv) and (g)(2) of this AD.
A340-200 and -300 series airplanes | A340-27-4151, Revision 01, dated March 19, 2008 | (g)(1)(i) and (g)(1)(ii) of this AD.
A340-200 and -300 series airplanes | A340-27-4152, Revision 02, dated September 23, 2008 | (g)(1)(iv) and (g)(2) of this AD.
A340-541 and -642 airplanes | A340-27-5040, Revision 02, dated September 23, 2008 | (g)(2) of this AD.

(1) For Model A330-200 and -300 series airplanes, up to and including manufacturer serial number (MSN) 0420, and Model A340-200 and -300 series airplanes, up to and including MSN 0415, except MSNs 0385 and 0395: Do the applicable actions specified in paragraphs (g)(1)(i), (g)(1)(ii), (g)(1)(iii), and (g)(1)(iv) of this AD at the applicable time specified.

(i) For airplanes on which less than 10 years have accumulated since the date of issuance of the original French standard airworthiness certificate or the date of issuance of the original French or EASA export certificate of airworthiness as of the effective date of this AD: Within 24 months after the effective date of this AD, perform simultaneous detailed visual inspections of the IPGB and of the DDS on all flap tracks on both wings for corrosion and wear detection and do all applicable corrective actions. For Type 3 damaged parts, do all applicable corrective actions before further flight. For Type 2 damaged IPGB parts, do all applicable corrective actions within 18 months after doing the inspection.

(ii) For airplanes on which 10 or more years have accumulated since the date of issuance of the original French standard airworthiness certificate or the date of issuance of the original French or EASA export certificate of airworthiness as of the effective date of this AD: Within 4 months after the effective date of this AD, perform simultaneous detailed visual inspections of the IPGB and of the DDS on flap tracks 2 and 4 on both wings for corrosion and wear detection. For any Type 3 damaged parts on flap tracks 2 and 4, do all applicable corrective actions before further flight. For any Type 2 damaged IPGB parts on flap tracks 2 and 4, do all applicable corrective actions within 18 months after doing the inspection required by paragraph (g)(1)(ii) of this AD.

(A) For wings on which Type 3 damage is found on the DDS of flap track 2 or 4, perform simultaneous detailed visual inspections of the IPGB and of the DDS on flap track 3 on both wings for corrosion and wear detection. For Type 3 damaged parts on flap track 3, do all applicable corrective actions before further flight. For Type 2 damaged IPGB parts, on flap track 3, do all applicable corrective actions within 18 months after doing the inspection required by paragraph (g)(1)(ii)(A) of this AD.

(1) For wings on which Type 3 damage is found on the DDS of flap track 3, before further flight, perform simultaneous detailed visual inspections of the IPGB and of the DDS on flap tracks 1 and 5 on both wings for corrosion and wear detection. For Type 3 damaged parts on flap tracks 1 and 5, do all applicable corrective actions before further flight. For Type 2 damaged IPGB parts on flap tracks 1 and 5, do all applicable corrective actions within 18 months after doing the inspection required by paragraph (g)(1)(ii)(A)(1) of this AD.

(2) For wings on which no Type 3 damage is found on the DDS of flap track 3, within 18 months after doing the inspection required by paragraph (g)(1)(ii)(A) of this AD, perform simultaneous detailed visual inspections of the IPGB and of the DDS on flap tracks 1 and 5 on both wings for corrosion and wear detection. For any Type 3 damaged parts on flap tracks 1 and 5, do all applicable corrective actions before further flight. For any Type 2 damaged IPGB parts on flap tracks 1 and 5, do all applicable corrective actions within 18 months after doing the inspection required by paragraph (g)(1)(ii)(A)(2) of this AD.

(B) For wings on which no Type 3 damage is found on the DDS of flap track 2 and 4: Within 18 months after doing the inspection required by paragraph (g)(1)(ii) of this AD, perform simultaneous detailed visual inspections of the IPGB and of the DDS on flap tracks 1, 3, and 5 on both wings for corrosion and wear detection. For any Type 3 damaged parts on flap tracks 1, 3, and 5, do all applicable corrective actions before further flight. For Type 2 damaged IPGB parts on flap tracks 1, 3, and 5, do all applicable corrective actions within 18 months after doing the inspection required by paragraph (g)(1)(ii) of this AD.

(iii) Within 30 days after performing an initial inspection required by paragraph (g)(1)(i) or (g)(1)(ii) of this AD, or within 30 days after the effective date of this AD, whichever occurs later, report the initial inspection results only, whatever they are, to Airbus as specified in the reporting sheet of the applicable service information listed in Table 1 of this AD.

(iv) Within 6 years after performing the applicable inspection required by paragraph (g)(1)(i) or (g)(1)(ii) of this AD, and thereafter at intervals not exceeding 6 years: Perform simultaneous detailed visual inspections of the IPGB and of the DDS on all flap tracks on both wings for corrosion and wear detection and do all applicable corrective actions. For Type 3 damaged parts, do all applicable corrective actions before further flight. For Type 2 damaged IPGB parts, do all applicable corrective actions within 18 months after doing the inspection.

(2) For airplanes other than those identified in paragraph (g)(1) of this AD: Within 6 years after issuance of the original French standard airworthiness certificate or the date of issuance of the original French or EASA export certificate of airworthiness, or within 20 months after the effective date of this AD, whichever occurs later; and thereafter at intervals not exceeding 6 years; perform simultaneous detailed visual inspections of the IPGB and of the DDS on all flap tracks on both wings for corrosion and wear detection and do all applicable corrective actions. For Type 3 damaged parts, do all applicable corrective actions before further flight. For Type 2 damaged IPGB parts, do all applicable corrective actions within 18 months after doing the inspection.

(3) Actions done before the effective date of this AD in accordance with the applicable service information specified in Table 2 of this AD are acceptable for compliance with the corresponding requirements of this AD.

Table 2—Credit Service Information
Airbus mandatory service bulletin— | Revision— | Dated—
A330-27-3151 | Original | August 9, 2007.
A330-27-3152 | Original | August 9, 2007.
A330-27-3152 | 01 | March 19, 2008.
A330-27-3152 | 02 | September 23, 2008.
A340-27-4151 | Original | August 9, 2007.
A340-27-4152 | Original | August 9, 2007.
A340-27-4152 | 01 | March 19, 2008.
A340-27-5040 | Original | August 9, 2007.
A340-27-5040 | 01 | March 19, 2008.

Note 1: Airbus should be contacted in order to get appropriate information for airplanes on which the original delivery date of the airplane is unknown to the operator.

FAA AD Differences

Note 2: This AD differs from the MCAI and/or service information as follows: No differences.

Other FAA AD Provisions

(h) The following provisions also apply to this AD:

(1) Alternative Methods of Compliance (AMOCs): The Manager, International Branch, ANM-116, has the authority to approve AMOCs for this AD, if requested using the procedures found in 14 CFR 39.19. Send information to ATTN: Vladimir Ulyanov, Aerospace Engineer, International Branch, ANM-116, FAA, Transport Airplane Directorate, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI EASA Airworthiness Directive 2008-0026, dated February 12, 2008, and the service information specified in Table 1 of this AD, for related information.

Material Incorporated by Reference

(j) You must use the service information contained in Table 3 of this AD to do the actions required by this AD, unless the AD specifies otherwise.

Table 3—Material Incorporated by Reference
Airbus mandatory service bulletin— | Revision— | Dated—
A330-27-3151, including Appendix 1 | 01 | March 19, 2008
A330-27-3152, including Appendices 1 and 2 | 03 | February 22, 2010
A340-27-4151, including Appendix 1 | 01 | March 19, 2008
A340-27-4152, including Appendices 1 and 2 | 02 | September 23, 2008
A340-27-5040, including Appendix 1 | 02 | September 23, 2008

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80, e-mail airworthiness.A330-A340@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on June 30, 2010.
Todd G. Dixon,
Acting Manager, Transport Airplane Directorate, Aircraft Certification Service.

[FR Doc. 2010-17064 Filed 7-21-10; 8:45 am]

BILLING CODE 4910-13-P